DEPARTMENT OF ENERGY

Federal Energy Regulatory Commission

[Docket Nos. EL17-64-000; EL17-65-000; ER18-87-000; ER18-87-001]

Energy Storage Association v. PJM Interconnection, L.L.C.; Renewable Energy System Americas and Invenergy Storage Development, LLC v. PJM Interconnection, L.L.C.; PJM Interconnection, L.L.C.; Notice of Technical Conference

Take notice that the staff of the Federal Energy Regulatory Commission will hold a technical conference to address issues raised in the captioned proceedings regarding PJM Interconnection, LLC's (PJM) frequency regulation (Regulation) market, including to examine PJM's two-signal Regulation market design with respect to the requirements of Order No. 755.

A specific date and time for the technical conference will be specified in a supplemental notice. The technical conference will be held at the Federal Energy Regulatory Commission, 888 First Street NE, Washington, DC 20426. The technical conference will be transcribed. All interested parties are invited to attend.

To facilitate the technical conference, Commission staff requires additional information from complainant Energy Storage Association (ESA) and PJM in the captioned proceedings.¹ The parties are requested to file with the Secretary of the Commission complete responses to the questions ² in the attached request within 30 days of the date of this notice.³

¹ This request for additional information is issued pursuant to 18 CFR 375.307(b)(3)(ii) (2017) and is interlocutory. This request for information is not subject to rehearing under 18 CFR 385.713.

² If a response to a question includes numeric values, where possible, please provide corresponding graphs, charts or tables to provide context.

³ To the extent that some of the requested information may include Critical Energy Infrastructure Information or other privileged or confidential information, please submit a nonpublic version in addition to a public version for Commission review, in accordance with 18 CFR 388.112 (2017).

Dated: May 3, 2018.
Nathaniel J. Davis, Sr.,
Deputy Secretary.

[FR Doc. 2018-09851 Filed 5-8-18; 8:45 am]

BILLING CODE 6717-01-P